DEPARTMENT OF COMMERCE

National Institute of Standards and Technology

[Docket Number: 181101997-8999-02]

Developing a Privacy Framework

AGENCY: National Institute of Standards and Technology, U.S. Department of Commerce.

ACTION: Notice; extension of comment period.

SUMMARY: The National Institute of Standards and Technology (NIST) extends the period for submitting written comments on the request for information (RFI) entitled “Developing a Privacy Framework,” published on November 14, 2018. The public comment period was originally to close on December 31, 2018; the comment period is extended to now end on January 14, 2019. NIST is taking this action to provide additional time to submit comments because multiple interested parties have expressed difficulty in submitting comments by the original deadline and have asked for an extension.

DATES: Comments must be received on or before January 14, 2019 at 5:00 p.m. Eastern Time.

ADDRESSES: Written comments may be submitted by mail to Katie MacFarland, National Institute of Standards and Technology, 100 Bureau Drive, Stop 2000, Gaithersburg, MD 20899. Electronic submissions may be sent to privacyframework@nist.gov, and may be in any of the following formats: HTML, ASCII, Word, RTF, or PDF. Please cite “Developing a Privacy Framework” in all correspondence. Comments received by the deadline will be posted at http://www.nist.gov/privacyframework without change or redaction, so commenters should not include information they do not wish to be posted (e.g., personal or confidential business information). Comments that contain profanity, vulgarity, threats, or other inappropriate language or content will not be posted or considered.

FOR FURTHER INFORMATION CONTACT: For questions about the RFI contact: Naomi Lefkovitz, U.S. Department of Commerce, NIST, MS 2000, 100 Bureau Drive, Gaithersburg, MD 20899, telephone (301) 975-2924, email privacyframework@nist.gov. Please direct media inquiries to NIST's Public Affairs Office at (301) 975-NIST.

SUPPLEMENTARY INFORMATION: On November 14, 2018, NIST published a notice and RFI in the Federal Register (83 FR 56824), about developing a privacy framework. The notice requested public comments on or before December 31, 2018. Multiple interested parties have expressed difficulty in submitting comments by the original deadline, and have asked for an extension. In light of these requests, NIST extends the period for submitting public comments to January 14, 2018. Previously submitted comments do not need to be resubmitted.

Kevin A. Kimball,
Chief of Staff.

[FR Doc. 2018-27248 Filed 12-14-18; 8:45 am]

BILLING CODE 3510-13-P